DEPARTMENT OF ENERGY

Federal Energy Regulatory Commission

[Docket No. CP19-471-000]

Notice of Environmental Onsite Review: Bluewater Gas Storage, LLC

On August 7, 2019, the Office of Energy Projects staff will conduct a site visit of the proposed Bluewater Gas Storage, LLC's (Bluewater) Omo Road Compressor Station site and potential alternative sites. The purpose of the site visit is to evaluate the proposed location and any feasible alternatives.

All interested parties planning to attend must provide their own transportation. Those attending should meet at the following time and location:

• 11:00 a.m. (EDT) at the Ray Township Hall, 64255 Wolcott Road, Ray, MI 48096.

FERC staff will also attend a Bluewater-sponsored open house on August 7, 2019 from 4:00 p.m. to 7:00 p.m. (EDT) at the Ray Township Hall, 64255 Wolcott Road, Ray, MI 48096.

Please use the FERC's free eSubscription service to keep track of all formal issuances and submittals in these dockets. This can reduce the amount of time you spend researching proceedings by automatically providing you with notification of these filings, document summaries, and direct links to the documents. To register for this service, go to www.ferc.gov/docs-filing/esubscription.asp.

Information about specific onsite environmental reviews is posted on the Commission's calendar at http://www.ferc.gov/EventCalendar/EventsList.aspx. For additional information, contact Office of External Affairs at (866) 208-FERC.

Dated: July 23, 2019.
Nathaniel J. Davis, Sr.,
Deputy Secretary.

[FR Doc. 2019-16112 Filed 7-29-19; 8:45 am]

BILLING CODE 6717-01-P